DEPARTMENT OF ENERGY

Federal Energy Regulatory Commission

[Docket No. IC11-519-000; Docket No. IC11-519-001]

Notice of Commission Information Collection Activities (FERC-519); Comment Request; Extension Under IC11-519.; Notice—Commission Information Collection Activities (FERC-519); Comment Request; Submitted for OMB Review Under IC11-519

On June 15, 2011, the Commission issued a Notice in Docket No. IC11-519-000 to solicit public comment on extending the expiration of an information collection. On August 29, 2011, the Commission issued a Notice in Docket No. IC11-519-001 regarding it's submission of an information collection to the Office of Management and Budget for review of information collection requirements. This Errata corrects an error originating in the June 15 notice and carried into the August 29 notice.

Notice in Docket No. IC11-519-000

On page 3, in the table, the average burden hours per response should be changed from 395 to 395.15. This slightly higher figure reflects the actual estimated burden that was previously approved by OMB and not used in the table due to an oversight. Changing this figure in the table necessitates changing the total annual burden hours listed in the table from 44,240 to 44,257 (rounded).

On page 4, due to correcting the error on page 3, the first two sentences should read:

The estimated total cost to respondents is $3,029,307 (rounded) [44,257 hours/2080 hours ¹ per year, times $142,372 ² equals $3,029,307 (rounded)]. The cost per respondent annually is $27,047 (rounded).

¹ Number of hours an employee works each year.

² Average annual salary per employee (including overhead).

Notice in Docket No. IC11-519-001

On page 4, in the table, the average burden hours per response should be changed from 395 to 395.15. This slightly higher figure reflects the actual estimated burden that was previously approved by OMB and not used in the table due to an oversight. Changing this figure in the table necessitates changing the total annual burden hours listed in the table from 44,240 to 44,257 (rounded).

Also on page 4, due to correcting the error on page 3, the first two sentences after the table should read:

The estimated total cost to respondents is $3,029,307 (rounded) [44,257 hours/2080 hours ³ per year, times $142,372 ⁴ equals $3,029,307 (rounded)]. The cost per respondent annually is $27,047 (rounded).

³ Number of hours an employee works each year.

⁴ Average annual salary per employee (including overhead).

Dated: September 19, 2011.
Kimberly D. Bose,
Secretary.

[FR Doc. 2011-24765 Filed 9-26-11; 8:45 am]

BILLING CODE 6717-01-P